COMMITTEE FOR PURCHASE FROM PEOPLE WHO ARE BLIND OR SEVERELY DISABLED

Procurement List; Additions and Deletions

AGENCY: Committee for Purchase from People Who Are Blind or Severely Disabled.

ACTION: Additions to and Deletions from Procurement List.

SUMMARY: This action adds to the Procurement List products and services to be furnished by nonprofit agencies employing persons who are blind or have other severe disabilities, and deletes from the Procurement List products previously furnished by such agencies.

DATES: Effective Date: October 1, 2006.

ADDRESS: Committee for Purchase From People Who Are Blind or Severely Disabled, Jefferson Plaza 2, Suite 10800, 1421 Jefferson Davis Highway, Arlington, Virginia, 22202-3259.

FOR FURTHER INFORMATION CONTACT: Sheryl D. Kennerly, Telephone: (703) 603-7740, Fax: (703) 603-0655, or e-mail SKennerly@jwod.gov.

SUPPLEMENTARY INFORMATION:

Additions

On April 28, 2006, June 9, 2006, June 16, 2006, and July 7, 2006, the Committee for Purchase From People Who Are Blind or Severely Disabled published notice (71 FR 25413, 33438, 34885, and 38607, respectively) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSNs: Inkjet Cartridge

7510-00-NIB-0735—Use in Canon Printers S400/450/500/520/530D/600/630/630N/750,

7510-00-NIB-0743—Use in Epson Printer C60,

7510-00-NIB-0741—Use in Epson Printers 780/78EXP/825/870/875DCS/8890/900/1270/1280,

7510-00-NIB-0742—Use in Epson Printers 1270/1280/900,

7045-01-432-4838—Use in Canon Printers BJC-400j/410j/420j/430j/455j/465j/2000/2010/2110/2130/2114,

7510-01-422-7532—Use in Canon Printers BJC-30/50/55/70/80/85/85W,

7510-00-NIB-0745—Use in Epson Printers 740/740i/760/860/1160/SCAN2000/2500,

7510-00-NIB-0746—Use in Epson Printers 440/640/660/670/740/740i/760/860/1160/SCAN2000/2500,

7510-00-NIB-0749—Use in Epson Printers 780/785EXP/825/870/875DCS/890/900/1270/1280,

7510-00-NIB-0751—Use in Epson Printers 770/770i/100ICS,

7510-00-NIB-0752—Use in Epson Printers 810/820/925/C50,

7510-00-NIB-0739—Use in Epson Printers 810/820/925,

7510-00-NIB-0744—Use in Epson Printers C62/CX3200,

7510-01-433-4279—Use in Canon Printers BJC-35/50/55/70/80/85/85W,

7510-01-441-4519—Use in Canon Printers BJC-2000/2100/4000/4200/4300/4400/4550/5000/5100,

7510-01-457-1144—Use in Canon Fax/Phone printers B100/110/150/540/550/640,

7510-01-494-1171—Use in Epson Printers C80/C80N/C80WN/960,

7510-01-494-1176—Use in Epson Printers C80/80N/82/CX5200,

7510-01-494-1177—Use in Epson Printers C80/960,

7510-01-494-1186—Use in Epson Printers C80/960,

7510-01-500-1061—Use in Canon Printers BJC-400j/410j/420j/430j/455j/465j/ 2000/ 2010/ 2110/2130/2114,

7510-01-507-3918—Use in Canon Printers BJC300/6000/6100/6200/6500/S400/450/500/520/530D/600/630/750/I550/I850,

7510-01-507-3919—Use in Canon Printers BJC300/6000/6100/6200/6500/S400/450/500/520/530D/600/630/750/I550/I850,

7510-01-507-3920—Use in Canon Printers BJC300/6000/6100/6200/6500/S400/450/500/520/530D/600/630/750/I550/I850,

7510-01-385-3698—Use in Canon Printers BJC/100/200/200e/210/230/ 240/250/255/1000.

NPA: Alabama Industries for the Blind, Talladega, Alabama.

Contracting Activity: Office Supplies & Paper Products Acquisition Center, New York, New York.

Coverage for the above products: These products meet the broad purchasing requirements of the JWOD Act and must be purchased by Federal employees whenever they will meet customer needs and will be available within required timeframes.

Product/NSNs: Pen, Retractable, Antimicrobial, EconoGard

7520-00-NIB-1741—White barrel w/cushion grip; black ink, medium point,

7520-00-NIB-1742—Black barrel w/cushion grip; black ink, medium point,

7520-00-NIB-1763—Black barrel w/cushion grip; black ink, fine point,

7520-00-NIB-1764—White barrel w/cushion grip; black ink, fine point,

NPA: Industries of the Blind, Inc., Greensboro, North Carolina.

Contracting Activity: General Services Administration.

Coverage for the above products: These products meet the broad purchasing requirements of the JWOD Act and must be purchased by Federal employees whenever they will meet customer needs and will be available within required timeframes.

Services

Service Type/Location: Base Information Transfer Center & Postal Service,

Air Force Education & Training Command,

469 C Street, Building 530,

Columbus AFB, Mississippi.

NPA: AbilityWorks, Inc. of Monroe County, Aberdeen, Mississippi.

Contracting Activity: 14th Contracting Squadron, Columbus AFB, Mississippi.

Service Type/Location: Document Destruction, Internal Revenue Service,

801 Tom Martin Drive,

Birmingham, Alabama.

NPA: United Cerebral Palsy of Greater Birmingham, Inc., Birmingham, Alabama.

Contracting Activity: U.S. Treasury, IRS, Chamblee, Georgia.

Service Type/Location: Laundry Service

At the following locations:

DiLorenzo Army Health Clinic

Pentagon, Arlington, Virginia

Kimbrough Ambulatory Care Center

Fort Meade, Maryland

Malcolm Grow Medical Center

Andrews AFB, Maryland

National Naval Medical Center

Naval Surface Warfare Center

Bethesda, Maryland

Naval Health Clinic

Patuxent River Naval Station

Patuxent River, Maryland

Walter Reed Army Medical Center

6900 Georgia Avenue, NW., Washington, DC

NPA: Rappahannock Goodwill Industries, Inc., Fredericksburg, Virginia.

Contracting Activity: North Atlantic Contracting Office, Washington, DC.

Deletion

On June 9, 2006, the Committee for Purchase From People Who Are Blind or Severely Disabled published notice (70 FR 33438) of proposed deletion to the Procurement List.

After consideration of the relevant matter presented, the Committee has determined that the product listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product

Product/NSN: Shampoo, Medicated

6505-01-326-0175,

6505-00-116-1362.

NPA: NYSARC, Inc., Seneca-Cayuga Counties Chapter, Waterloo, New York.

Contracting Activity: Defense Supply Center Philadelphia, Philadelphia, Pennsylvania.

Patrick Rowe,
Deputy Executive Director.

[FR Doc. E6-14507 Filed 8-31-06; 8:45 am]

BILLING CODE 6353-01-P